DEPARTMENT OF COMMERCE

International Trade Administration

[A-552-835]

Boltless Steel Shelving Units Prepackaged for Sale From the Socialist Republic of Vietnam: Final Affirmative Determination of Sales at Less-Than-Fair-Value

AGENCY: Enforcement and Compliance, International Trade Administration, Department of Commerce.

SUMMARY: The U.S. Department of Commerce (Commerce) determines that imports of boltless steel shelving units prepackaged for sale (boltless steel shelving) from the Socialist Republic of Vietnam (Vietnam) are being, or likely to be, sold in the United States at less than fair value (LTFV). The period of investigation is October 1, 2022, through March 31, 2023.

DATES: Applicable April 19, 2024.

FOR FURTHER INFORMATION CONTACT: Eliza DeLong or Eric Hawkins, AD/CVD Operations, Office V, Enforcement and Compliance, International Trade Administration, U.S. Department of Commerce, 1401 Constitution Avenue NW, Washington, DC 20230; telephone: (202) 482-3878 or (202) 482-1988, respectively.

SUPPLEMENTARY INFORMATION:

Background

On November 29, 2023, Commerce published in the Federal Register its preliminary affirmative determination in the LTFV investigation of boltless steel shelving from Vietnam.¹ We invited parties to comment on the Preliminary Determination.

¹ See Boltless Steel Shelving Units from the Socialist Republic of Vietnam: Preliminary Affirmative Determination of Sales at Less Than Fair Value, Postponement of Final Determination, and Extension of Provisional Measures, 88 FR 83392 (November 29, 2023) (Preliminary Determination), and accompanying Preliminary Decision Memorandum (PDM).

A summary of the events that occurred since Commerce published the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Decision Memorandum for the Final Affirmative Determination in the Less-Than-Fair-Value Investigation of Boltless Steel Shelving Units Prepackaged for Sale from the Socialist Republic of Vietnam,” dated concurrently with, and hereby adopted by, this notice (Issues and Decision Memorandum).

Scope of the Investigation

The product covered by this investigation is boltless steel shelving from Vietnam. For a complete description of the scope of this investigation, see Appendix I.

Scope Comments

During the course of this investigation, Commerce received scope comments from interested parties. Commerce issued a Preliminary Scope Decision Memorandum to address these comments and set aside a period of time for parties to address scope issues in scope-specific case and rebuttal briefs.³ We received comments from interested parties on the Preliminary Scope Decision Memorandum, which we addressed in the Final Scope Decision Memorandum.⁴ We did not make any changes to the scope of the investigation from the scope published in the Preliminary Determination.

³ See Memorandum, “Antidumping Duty Investigations of Boltless Steel Shelving Units Prepackaged for Sale from India, Malaysia, Taiwan, Thailand, and the Socialist Republic of Vietnam: Preliminary Scope Decision Memorandum,” dated November 13, 2023 (Preliminary Scope Decision Memorandum).

⁴ See Memorandum, “Antidumping Duty Investigation of Boltless Steel Shelving Units Prepackaged for Sale from Malaysia, Taiwan, Thailand, and the Socialist Republic of Vietnam: Final Scope Decision Memorandum,” dated April 12, 2024 (Final Scope Decision Memorandum).

Verification

Commerce verified the sales and factors of production information submitted by Xinguang (Vietnam) Logistic Equipment Co., Ltd (Xinguang Vietnam) and the sales information submitted by Thanh Phong Production and Trade Limited Company (Thanh Phong) for use in our final determination, consistent with section 782(i) of the Tariff Act of 1930, as amended (the Act). We used standard verification procedures, including an examination of relevant sales and accounting records, and original source documents provided by Xinguang Vietnam and Thanh Phong.⁵

⁵ See Memoranda, “Verification of the Questionnaire Responses of Thanh Phong Production and Trade Limited Company in the Less-Than-Fair-Value Investigation of Boltless Steel Shelving Units Prepackaged for Sale from the Socialist Republic of Vietnam,” dated February 13, 2024; and “Verification of the Questionnaire Responses of Xinguang (Vietnam) Logistic Equipment Co., Ltd. in the Less-Than-Fair-Value Investigation of Boltless Steel Shelving Units Prepackaged for Sale from the Socialist Republic of Vietnam,” dated February 13, 2024.

Analysis of Comments Received

All issues raised in the case and rebuttal briefs submitted by interested parties in this investigation are addressed in the Issues and Decision Memorandum. A list of the issues raised is attached to this notice as Appendix II.

Changes Since the Preliminary Determination

Based on our review and analysis of the comments received from interested parties, we made changes to the margin calculations for Xinguang Vietnam.⁶ For a discussion of these changes, see the Issues and Decision Memorandum.

⁶ See Issues and Decision Memorandum.

Vietnam-Wide Entity and Use of Adverse Facts Available (AFA)

Consistent with the Preliminary Determination,⁷ Commerce continues to find, pursuant to sections 776(a)(1) and (a)(2)(A)-(C) of the Act, that the use of facts available is warranted in determining the rate of the Vietnam-wide entity, which includes Cuong Nghia Imp. Exp. (Cuong Nghia) and Parkway Thanh Phong Co. (Parkway), two companies that were not selected for individual examination ⁸ that did not respond to our requests for information. Furthermore, we continue to find that an adverse inference is warranted in selecting from the facts otherwise available, pursuant to section 776(b) of the Act and 19 CFR 351.308(a), because the Vietnam-wide entity, including the two companies referred to above, failed to cooperate by not acting to the best of its ability to comply with Commerce's requests for information. For the final determination, consistent with the Preliminary Determination,⁹ as AFA, we are continuing to assign the Vietnam-wide entity, including the above-referenced companies, the rate of 224.94 percent, which is the highest margin alleged in the petition.¹⁰

⁷ See Preliminary Determination PDM at 6-8.

⁸ Id.

⁹ Id.

¹⁰ See Initiation Checklist, “Antidumping Duty Investigation Initiation Checklist: Boltless Steel Shelving Units Prepackaged for Sale from the Socialist Republic of Vietnam,” dated May 15, 2023.

Combination Rates

Consistent with the Preliminary Determination and Policy Bulletin 05.1,¹¹ Commerce calculated a combination rate for Xinguang Vietnam, i.e., the sole respondent eligible for a separate rate.

¹¹ See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Final Determination

The final estimated weighted-average dumping margins are as follows:

Exporter | Producer | Estimated weighted- average dumping margin (percent)
Xinguang (Vietnam) Logistic Equipment Co., Ltd | Xinguang (Vietnam) Logistic Equipment Co., Ltd | 181.60
Vietnam-Wide Entity | ¹² 224.94

Disclosure

¹² The Vietnam-wide rate is based on facts available with adverse inferences.

Commerce intends to disclose its calculations performed to interested parties in this final determination within five days of any public announcement or, if there is no public announcement, within five days of the date of publication of this notice in the Federal Register, in accordance with 19 CFR 351.224(b).

Continuation of Suspension of Liquidation

In accordance with section 735(c)(1)(B) of the Act, we will instruct U.S. Customs and Border Protection (CBP) to continue to suspend liquidation of subject merchandise entries, as described in Appendix I of this notice, which are entered, or withdrawn from warehouse, for consumption on or after November 29, 2023, the date of publication in the Federal Register of the Preliminary Determination.

Pursuant to section 735(c)(1)(B)(ii) of the Act and 19 CFR 351.210(d), Commerce will instruct CBP to require a cash deposit equal to the amount by which the normal value exceeds the U.S. price as follows: (1) the cash deposit rate for the exporter/producer combination listed in the table above will be the rate identified in the table; (2) for all combinations of Vietnamese exporters/producers of subject merchandise that have not received their own separate rate above, the cash deposit rate will be the cash deposit rate established for the Vietnam-wide entity; and (3) for all non-Vietnamese exporters of subject merchandise which have not received their own separate rate above, the cash deposit rate will be the cash deposit rate applicable to the Vietnamese exporter/producer combination that supplied that non-Vietnamese exporter. These suspension of liquidation instructions will remain in effect until further notice.

U.S. International Trade Commission Notification

In accordance with section 735(d) of the Act, Commerce will notify the U.S. International Trade Commission (ITC) of its final affirmative determination of sales at LTFV. Because the final determination in this proceeding is affirmative, in accordance with section 735(b)(2) of the Act, the ITC will make its final determination as to whether the domestic industry in the United States is materially injured, or threatened with material injury, by reason of imports of boltless steel shelving from Vietnam no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instruction by Commerce, antidumping duties on all imports of the subject merchandise that are entered, or withdrawn from warehouse, for consumption on or after the effective date of the suspension of liquidation, as discussed in the “Continuation of Suspension of Liquidation” section above.

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a violation which is subject to sanction.

Notification to Interested Parties

This final determination is issued and published in accordance with sections 735(d) and 777(i) of the Act, and 19 CFR 351.210(c).

Dated: April 12, 2024.
Ryan Majerus
Deputy Assistant Secretary for Policy and Negotiations, performing the non-exclusive functions and duties of the Assistant Secretary for Enforcement and Compliance.

Appendix I

Scope of the Investigation

The scope of this investigation covers boltless steel shelving units prepackaged for sale, with or without decks (boltless steel shelving). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by this investigation may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of: (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• Wall-mounted shelving, defined as shelving that is hung on the wall and does not stand on, or transfer load to, the floor. The addition of a wall bracket or other device to attach otherwise freestanding subject merchandise to a wall does not meet the terms of this exclusion;

• Wire shelving units, which consist of shelves made from wire that incorporates both a wire deck and wire horizontal supports (taking the place of the horizontal beams and braces) into a single piece with tubular collars that slide over the posts and onto plastic sleeves snapped on the posts to create the finished shelving unit;

• Bulk-packed parts or components of boltless steel shelving units; and

• Made-to-order shelving systems.

Subject boltless steel shelving enters the United States through Harmonized Tariff Schedule of the United States (HTSUS) statistical subheading 9403.20.0075. While the HTSUS subheading is provided for convenience and customs purposes, the description of the scope of this investigation is dispositive.

Appendix II

List of Topics Discussed in the Issues and Decision Memorandum

I. Summary

II. Background

III. Changes from the Preliminary Determination

IV. Use of Facts Otherwise Available

V. Discussion of the Issues

Comment 1: Whether Thanh Phong Sold Subject Merchandise

Comment 2: Selection of Surrogate Financial Statements

Comment 3: Whether to Separately Value the Energy Factors of Production (FOPs)

Comment 4: Surrogate Value (SV) for Hot-Rolled Steel

Comment 5: Whether Certain Raw Materials Should be Part of Overhead

Comment 6: How to Treat Wire Fees

Comment 7: Treatment of “Transfer” Transactions

VI. Recommendation

[FR Doc. 2024-08370 Filed 4-18-24; 8:45 am]

BILLING CODE 3510-DS-P